DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before May 14, 2008.

ADDRESSES: You may submit your comments, identified by “docket number” on the subject line, by any of the following methods:

1. Electronic mail: Standards-Petitions@dol.gov.

2. Facsimile: 1-202-693-9441.

3. Regular Mail: MSHA, Office of Standards, Regulations, and Variances, 1100 Wilson Boulevard, Room 2349, Arlington, Virginia 22209, Attention: Patricia W. Silvey, Director, Office of Standards, Regulations, and Variances.

4. Hand-Delivery or Courier: MSHA, Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Lawrence D. Reynolds, Office of Standards, Regulations, and Variances at 202-693-9449 (Voice), reynolds.lawrence@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-008-C.

Petitioner: D. Molesevich & Sons Construction Company, Inc., 333 South Pine Street, Mount Carmel, Pennsylvania 17851.

Mine: Snake Road Stripping Mine, MSHA I.D. No. 36-09485, located in Northumberland County, Pennsylvania.

Regulation Affected: 30 CFR 77.1200(c) & (k) (Mine map).

Modification Request: The petitioner requests a modification of the existing standard to permit the use of cross-sections in lieu of contour lines at regular intervals through the area to be mined and to limit the required mapping of mine workings below to those present within 100 feet of the vein(s) being mined. The petitioner states that: (1) Due to the steep pitch encountered in mining anthracite coal veins, contours provide no useful information and their presence would make portions of the map illegible; (2) use of cross-sections in lieu of contour lines has been practiced since the late 1800s thereby providing critical information relative to the spacing between veins and proximity to other mine workings which fluctuate considerably; (3) the vast majority of current surface anthracite mining involves either the mining of remnant pillars from previous mining/mine operators or the mining of veins of lower quality in proximity to inaccessible and frequently flooded abandoned mine workings which may or may not be mapped; and (4) the mine workings below are usually inactive and abandoned, therefore, are not subject to changes during the life of the mine, but active mines will be mapped. The petitioner asserts that the proposed alternative method will in no way provide less than the same measure of protection than that afforded the miners under the existing standard.

Docket Number: M-2008-009-C.

Petitioner: XMV, Inc., 215 Suppliers Road, Bluefield, Virginia 24605.

Mine: Mine No. 35, MSHA I.D. No. 46-08131, located in McDowell County, West Virginia.

Regulation Affected: 30 CFR 75.364(b)(4) (Weekly examination).

Modification Request: The petitioner requests a modification of the existing standard to permit the following examinations to be conducted in lieu of evaluating the seals underground: (1) Establish Monitoring Point P at an abandoned portal used by Postar Coal Company, Inc., Postar No. 1 Mine, MSHA I.D. No. 46-07983 for bleeder flow evaluation and establish Evaluation Point X at a drill hole near the Mine No. 35, MSHA I.D. No. 46-08131 side of the separator seals; (2) use Monitoring Point P to evaluate the atmosphere behind the separator seals in the abandoned Postar No. 1 Mine to insure that the atmosphere remains at a non-explosive range and use Evaluation Point X to insure that the No. 35 Mine side of the separator seals are being ventilated with intake air provided by the exhausting bleeder fan; and (3) have a certified person conduct weekly examinations and evaluations that will be maintained in an approved record book. The petitioner states that: (1) The Mine is a drift operation with multiple outcrop and surface openings with no history of methane or ventilation problems; (2) the separator seals existed when the cross through to the U.S. Steel No. 9 Mine, MSHA I.D. No. 46-01418 old panel took place and the bleeder system was established; and (3) ventilation is set up to prevent any contaminant from the abandoned area to reach the working section. The petitioner asserts that Monitoring Point P and Evaluation Point X will provide a level of safety as is required by the existing standard.

Docket Number: M-2008-010-C.

Petitioner: Pleasant View Mining Company, Inc., 755 Nebo Road, Madisonville, Kentucky 42431.

Mine: Richland No. 9 Mine, MSHA I.D. No. 15-17232, located in Hopkins County, Kentucky.

Regulation Affected: 30 CFR 75.1101-1(b) (Deluge-type water spray systems).

Modification Request: The petitioner requests a modification of the existing standard to permit an alternative method of compliance in lieu of using blow-off dust covers for deluge-type water spray nozzles. The petitioner proposes to have a person trained in the testing procedures specific to the deluge-type water spray fire suppression systems used at each belt drive to conduct the following procedures once each week: (1) A visual examination of each of the deluge-type water spray fire suppression system; (2) a functional test of the deluge-type water spray fire suppression systems by actuating the system and observing its performance; and (3) record the results of the examination and functional test in a book maintained on the surface and made available to the authorized representative of the Secretary. The record book will be retained for one year. The petitioner asserts that the proposed alternative method will provide a measure of protection equal to or greater than that of the standard.

Docket Number: M-2008-011-C.

Petitioner: Chevron Mining, Inc., 12398 New Lexington Road, Barry, Alabama 35546.

Mine: North River Mine, MSHA I.D. No. 01-00759, located in Fayette County, Alabama.

Regulation Affected: 30 CFR 75.507 (Power Connection Points).

Modification Request: The petitioner requests a modification of the existing standard to permit the use of three-phase, alternating current, and deep-well non-permissible pumps in boreholes in the mine. The petitioner proposes to use non-permissible pumps in boreholes into an area of the North River Mine where water has accumulated and not on intake air. The petitioner states that: (1) The pump will be equipped with sensors to determine high and low water level; (2) pumps in inaccessible underground locations will utilize undercurrent shutdown protection with redundant electronic pressure transducers that are suitable for submersible pump applications; (3) the low water probe will be located not less than 30 feet above the pump inlet and motor and electrical connections of the pump; (4) the high, low, or level water probes will include redundant electronic pressure transducers that are suitable for submersible pump control application; (5) all probe circuits will be protected by MSHA approved intrinsically safe barriers; and (6) the pumps will also be equipped with intrinsically safe ultrasonic water level sensors isolated by MSHA approved barriers. The petitioner further states that within 60 days of the Proposed Decision and Order, proposed revisions of its Part 48 training plan will be submitted to the District Manager for the area in which the mine is located. Persons may review a complete description of petitioner's alternative method and procedures at the MSHA address listed in this notice. The petitioner asserts that the proposed alternative method will at all times guarantee no less than the same measure of protection to all miners as would be provided by the standard.

Jack Powasnik,
Deputy Director, Office of Standards, Regulations, and Variances.

[FR Doc. E8-7804 Filed 4-11-08; 8:45 am]

BILLING CODE 4510-43-P